DEPARTMENT OF ENERGY

10 CFR Part 430

[EERE-2017-BT-STD-0019]

Energy Conservation Program: Energy Conservation Standards for Consumer Products; Consumer Water Heaters; Reopening of Comment Period

AGENCY: Office of Energy Efficiency and Renewable Energy, Department of Energy.

ACTION: Request for information; reopening of public comment period.

SUMMARY: On March 1, 2022, the U.S. Department of Energy (DOE or the Department) published in the Federal Register a notification of availability of preliminary technical support document and request for comment regarding energy conservation standards for consumer water heaters. DOE received three requests to extend the public comment period by 60 days. DOE has reviewed these requests and is reopening the public comment period to allow comments to be submitted until May 16, 2022.

DATES: The comment period for the preliminary technical support document published in the Federal Register on March 1, 2022 (87 FR 11327) is reopened until May 16, 2022. Written comments, data, and information are requested and will be accepted on and before May 16, 2022.

ADDRESSES: Interested persons are encouraged to submit comments using the Federal eRulemaking Portal at www.regulations.gov. Follow the instructions for submitting comments. Alternatively, interested persons may submit comments, identified by docket number EERE-2017-BT-STD-0019, by any of the following methods:

(1) Federal eRulemaking Portal: www.regulations.gov. Follow the instructions for submitting comments.

(2) Email: To ConsumerWaterHeaters2017STD0019@ee.doe.gov. Include docket number EERE-2017-BT-STD-0019 in the subject line of the message.

No telefacsimilies (“faxes”) will be accepted. For detailed instructions on submitting comments and additional information on this process, see ADDRESSES section.

Although DOE has routinely accepted public comment submissions through a variety of mechanisms, including postal mail and hand delivery/courier, the Department has found it necessary to make temporary modifications to the comment submission process in light of the ongoing COVID-19 pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web pages can be found at: www.regulations.gov/docket/EERE-2017-BT-STD-0019. The docket web page contains instructions on how to access all documents, including public comments, in the docket.

FOR FURTHER INFORMATION CONTACT:

Ms. Julia Hegarty, U.S. Department of Energy, Office of Energy Efficiency and Renewable Energy, Building Technologies Office, EE-5B, 1000 Independence Avenue SW, Washington, DC 20585-0121. Telephone: (240) 597-6737. Email: ApplianceStandardsQuestions@ee.doe.gov.

Mr. Eric Stas, U.S. Department of Energy, Office of the General Counsel, GC-33, 1000 Independence Avenue SW, Washington, DC 20585-0121. Telephone: (202) 586-5827. Email: Eric.Stas@hq.doe.gov.

For further information on how to submit a comment or review other public comments and the docket, contact the Appliance and Equipment Standards Program staff at (202) 287-1445 or by email: ApplianceStandardsQuestions@ee.doe.gov.

SUPPLEMENTARY INFORMATION: On March 1, 2022, DOE published in the Federal Register a notification of availability of preliminary technical support document and request for comment regarding energy conservation standards for consumer water heaters. DOE stated it would accept written comments, data, and information on the proposal by May 2, 2022. 87 FR 11327.

On April 8, 2022, and April 28, 2022, respectively, DOE received a comment from the Air Conditioning and Refrigeration Institute (AHRI) and a joint comment from the American Gas Association, American Public Gas Association, National Propane Gas Association, Spire Inc., Spire Missouri Inc., and Spire Alabama Inc. (collectively, the “Joint Commenters”), each requesting a 60-day extension of the public comment period on the basis that DOE had made public the preliminary Technical Support Document (“TSD”) one week after the notification was published in the Federal Register.¹ On April 28, 2022, DOE also received a comment from ONE Gas, Inc. requesting a 21-day extension of the public comment period to continue their review of the supplemental analytical tools relating to the preliminary analysis.²

¹ See https://www.regulations.gov/docket/EERE-2017-BT-STD-0019/comments.

² See https://www.regulations.gov/docket/EERE-2017-BT-STD-0019/comments.

DOE has reviewed the request and is reopening the comment period to allow additional time for interested parties to submit comments. In light of DOE's one week delay in providing the preliminary TSD to the public, DOE believes that additional time is warranted, and that reopening the comment period until May 16, 2022, is sufficient. Therefore, DOE is reopening the comment period until May 16, 2022.

Signing Authority

This document of the Department of Energy was signed on April 29, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 29, 2022.
Treena V. Garrett,
Federal Register Liaison Officer, U.S. Department of Energy.

[FR Doc. 2022-09554 Filed 5-3-22; 8:45 am]

BILLING CODE 6450-01-P